DEPARTMENT OF THE INTERIOR

National Park Service

[NPS-WASO-NAGPRA-12676; PPWOCRADN0-PCU00RP14.R50000]

Notice of Inventory Completion: Carnegie Museum of Natural History, Pittsburgh, PA

AGENCY: National Park Service, Interior.

ACTION: Notice.

SUMMARY: The Carnegie Museum of Natural History has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Carnegie Museum of Natural History. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Carnegie Museum of Natural History at the address in this notice by May 15, 2013.

ADDRESSES: Dr. Sandra L. Olsen, Carnegie Museum of Natural History, 5800 Baum Blvd., Pittsburgh, PA 15206, telephone (412) 665-2606, email SandraLOlsen@gmail.com.

SUPPLEMENTARY INFORMATION: Notice is here given in accordance with the Native American Graves Protection and Repatriation Act (NAGPRA), 25 U.S.C. 3003, of the completion of an inventory of human remains and associated funerary objects under the control of the Carnegie Museum of Natural History, Pittsburgh, PA. The human remains and associated funerary objects were removed from Emerson Cemetery, in Hancock County, ME.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Carnegie Museum of Natural History professional staff in consultation with representatives of the Aroostook Band of Micmac (previously listed as the Aroostook Band of Micmac Indians); Houlton Band of Maliseet Indians; Passamaquoddy Tribe; and the Penobscot Nation (previously listed as the Penobscot Tribe of Maine).

History and Description of the Remains

In 1912, human remains representing, at minimum, one individual were removed from the Emerson Cemetery near Lake Alamoosook, in Orland, Hancock County, ME. This was part of an exploration of archaeological sites in Maine by the Phillips Academy, Andover, MA. In 1923, Phillips Academy transferred a single individual's remains and associated funerary objects to the Carnegie Museum of Natural History, as part of a large, representative sample of archaeological material from all over the United States. The individual is represented by a single bone fragment from Grave 65. No known individuals were identified. The 18 associated funerary objects are 3 gouges, 5 points, 1 broken point, 1 pebble, 3 celts, 1 knife, 1 adze, 1 plummet, and 2 water-worn stones removed from Grave 65 and Graves 61, 83, and 90.

The human remains and associated funerary objects were identified by archaeologists at Phillips Academy as being from the Red Paint phase, identified by the extensive use of red ochre in the burials. Red ochre has a spiritual significance in the Wabanaki cultural worldview, as illustrated in oral tales published in 1894 (Rand, Legends of the Micmacs). Creation stories and other narratives place the Wabanaki tribes in Maine from the earliest days. The Wabanaki people have a long history of protecting burial places. Records from the 18th century document the Wabanaki tribes desire to maintain ancestral burials and cemeteries undisturbed.

Orland, ME, is within the traditional hunting and fishing territory of the Penobscot tribe, and specific places in the area are referenced in Penobscot tribal legends (Speck, Penobscot Man: The Life History of a Forest Tribe in Maine; Siebert, Penobscot Legends). In 1775, the Provincial Congress of Massachusetts recognized the Penobscot tribe's claim to “territories or possessions, beginning at the Head of Tide on the Penobscot-river, extending six miles on each side of said river” (Godfrey, “The Ancient Penobscot, or Panawanskek,” Historical Magazine, Vol. 1., Series 3: 85-92). Although the Emerson Cemetery was on property not owned by Penobscot tribe, in 1918, the same excavators from Phillips Academy were refused permission to examine similar Red Paint graves on located on Indian Island, ME, on Penobscot tribal lands.

Today, the Wabanaki tribes are represented by the Aroostook Band of Micmac (previously listed as the Aroostook Band of Micmac Indians); Houlton Band of Maliseet Indians; Passamaquoddy Tribe; and the Penobscot Nation (previously listed as the Penobscot Tribe of Maine).

Determinations Made by the Carnegie Museum of Natural History

Officials of the Carnegie Museum of Natural History have determined that:

• Pursuant to 25 U.S.C. 3001(9), the human remains described in this notice represent the physical remains of one individual of Native American ancestry.

• Pursuant to 25 U.S.C. 3001(3)(A), the 18 objects described in this notice are reasonably believed to have been placed with or near individual human remains at the time of death or later as part of the death rite or ceremony.

• Pursuant to 25 U.S.C. 3001(2), there is a relationship of shared group identity that can be reasonably traced between the Native American human remains and associated funerary objects and the Aroostook Band of Micmac (previously listed as the Aroostook Band of Micmac Indians); Houlton Band of Maliseet Indians; Passamaquoddy Tribe; and the Penobscot Nation (previously listed as the Penobscot Tribe of Maine).

Additional Requestors and Disposition

Lineal descendants or representatives of any Indian tribe or Native Hawaiian organization not identified in this notice that wish to request transfer of control of these human remains and associated funerary objects should submit a written request with information in support of the request to Dr. Sandra L. Olsen, Carnegie Museum of Natural History, 5800 Baum Blvd., Pittsburgh, PA 15206, telephone (412) 665-2606, email SandraLOlsen@gmail.com, by May 15, 2013. After that date, if no additional requestors have come forward, transfer of control of the human remains and associated funerary objects to the Aroostook Band of Micmac (previously listed as the Aroostook Band of Micmac Indians); Houlton Band of Maliseet Indians; Passamaquoddy Tribe; and the Penobscot Nation (previously listed as the Penobscot Tribe of Maine) may proceed.

The Carnegie Museum of Natural History is responsible for notifying the Aroostook Band of Micmac (previously listed as the Aroostook Band of Micmac Indians); Houlton Band of Maliseet Indians; Passamaquoddy Tribe; and the Penobscot Nation (previously listed as the Penobscot Tribe of Maine) that this notice has been published.

Dated: March 26, 2013.
Sherry Hutt,
Manager, National NAGPRA Program.

[FR Doc. 2013-08770 Filed 4-12-13; 8:45 am]

BILLING CODE 4312-50-P